DEPARTMENT OF THE INTERIOR

National Park Service

[NPS-WASO-NAGPRA; PPWOCRADN0-PCU00RP14.R50000]

Notice of Intent To Repatriate Cultural Items: U.S. Fish and Wildlife Service, Office of Law Enforcement, Albuquerque, NM

AGENCY: National Park Service, Interior.

ACTION: Notice.

SUMMARY: The U.S. Fish and Wildlife Service, Office of Law Enforcement, in consultation with the appropriate Indian Tribes or Native Hawaiian organizations, has determined that the cultural item listed in this notice meets the definition of object of cultural patrimony. Lineal descendants or representatives of any Indian Tribe or Native Hawaiian organization not identified in this notice that wish to claim this cultural item should submit a written request to the U.S. Fish and Wildlife Service, Office of Law Enforcement. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the U.S. Fish and Wildlife Service, Office of Law Enforcement, at the address in this notice by May 4, 2018.

ADDRESSES: Ariel R. Vazquez, Resident Agent in Charge, Arizona/New Mexico District, U.S. Fish and Wildlife Service, Office of Law Enforcement, 4901 Paseo del Norte NE, Suite D, Albuquerque, NM 87113, telephone (505) 346-7828, email ariel_vazquez@fws.gov.

SUPPLEMENTARY INFORMATION: Notice is here given in accordance with the Native American Graves Protection and Repatriation Act (NAGPRA), 25 U.S.C. 3005, of the intent to repatriate a cultural item under the control of the U.S. Fish and Wildlife Service, Office of Law Enforcement, Albuquerque, NM, that meets the definition of object of cultural patrimony under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Item(s)

In February 2016, a cultural item was removed from a residence in McKinley County, NM. The cultural item was included in a collection of items with eagle feathers surrendered to law enforcement agents. The one object of cultural patrimony is a bison headdress with glass beading and eagle plume feathers. Cultural affiliation was determined based on the type of beading, which compares with historic photos of beaded headdresses provided by the Comanche Nation, Oklahoma.

Determinations Made by the U.S. Fish and Wildlife Service, Office of Law Enforcement

Officials of the U.S. Fish and Wildlife Service, Office of Law Enforcement, have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Comanche Nation, Oklahoma.

Additional Requestors and Disposition

Lineal descendants or representatives of any Indian Tribe or Native Hawaiian organization not identified in this notice that wish to claim these cultural items should submit a written request with information in support of the claim to: Ariel R. Vazquez, Resident Agent in Charge, Arizona/New Mexico District, U.S. Fish and Wildlife Service, Office of Law Enforcement, 4901 Paseo del Norte NE, Suite D, Albuquerque, NM 87113, telephone (505) 346-7828, email ariel_vazquez@fws.gov, by May 4, 2018. After that date, if no additional claimants have come forward, transfer of control of the object of cultural patrimony to the Comanche Nation, Oklahoma may proceed.

The U.S. Fish and Wildlife Service is responsible for notifying the Comanche Nation, Oklahoma that this notice has been published.

Dated: February 28, 2018.
Melanie O'Brien,
Manager, National NAGPRA Program.

[FR Doc. 2018-06836 Filed 4-3-18; 8:45 am]

BILLING CODE 4312-52-P